DEPARTMENT OF HOMELAND SECURITY

Federal Emergency Management Agency

[Docket ID FEMA-2020-0035; OMB No. 1660-0072]

Agency Information Collection Activities: Proposed Collection; Comment Request; Flood Mitigation Assistance (FMA); Building Resilient Infrastructure and Communities (BRIC); Pre-Disaster Mitigation (PDM)

AGENCY: Federal Emergency Management Agency, DHS

ACTION: 60 Day Notice and request for comments.

SUMMARY: The Federal Emergency Management Agency (FEMA), as part of its continuing effort to reduce paperwork and respondent burden, invites the general public to take this opportunity to comment on a revision of a currently approved information collection. In accordance with the Paperwork Reduction Act of 1995, this notice seeks comments concerning FEMA's Hazard Mitigation Assistance (HMA) grant programs. While this information collection continues to include the Flood Mitigation Assistance (FMA) program, it includes updates to (1) introduce the Building Resilient Infrastructure and Communities (BRIC) program; and (2) establish the Pre-Disaster Mitigation (PDM) program as a legacy program. Under the FEMA's HMA grant programs, States, local communities, Tribes, and Territories (SLTTs) seek assistance to support disaster mitigation and provide opportunities to reduce or eliminate potential losses to SLTTs.

DATES: Written comments must be received on or before December 28, 2020.

ADDRESSES: Submit comments at www.regulations.gov under Docket ID FEMA-2020-0035. Follow the instructions for submitting comments.

All submissions received must include the agency name and Docket ID, and will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Jennie Orenstein, Grants Policy Branch Chief, FIMA, FEMA, (202) 212-4071. You may contact the Records Management Division for copies of the proposed collection of information at email address: FEMA-Information-Collections-Management@fema.dhs.gov.

SUPPLEMENTARY INFORMATION: This collection of information is necessary to implement grants for the Flood Mitigation Assistance (FMA) program, Pre-Disaster Mitigation (PDM), and Building Resilient Infrastructure and Communities (BRIC) program.

The FMA program is authorized pursuant to Section 1366 of the National Flood Insurance Act of 1968, 42 U.S.C. 4104c. The FMA program, under 44 CFR part 79, provides funding for measures taken to reduce or eliminate the long-term risk of flood damage to buildings, manufactured homes, and other structures insured under the National Flood Insurance Program (NFIP). FMA was created as part of the National Flood Insurance Reform Act (NFIRA) of 1994, Public Law 103-325. The Biggert-Waters Flood Insurance Reform Act of 2012 (BW-12), Public Law 112-141, consolidated the Repetitive Flood Claims (RFC) and Severe Repetitive Loss grant (SRL) programs into FMA, and changed the cost-share requirements under FMA to allow more Federal funds for properties with repetitive flood claims.

The PDM program was authorized under Section 203 of the Robert T. Stafford Disaster Relief and Emergency Assistance Act (Stafford Act), Public Law 93-288, 42 U.S.C. 5133, as amended by Section 102 of the Disaster Mitigation Act of 2000, Public Law 106-390. The PDM program provided grants for cost-effective mitigation actions prior to a disaster event to reduce overall risks to the population and structures, while also reducing reliance on funding from actual disaster declarations. Section 1234 of the Disaster Recovery Reform Act of 2018 (DRRA) amended Section 203 of the Stafford Act to authorize an updated program. As a result, FEMA is replacing the PDM program with the BRIC program and is establishing PDM as a legacy program. While the last cycle of the PDM program awards were made in Fiscal Year (FY) 2019, this information collection will continue through FY 2020-2021 for grant monitoring and closeout.

The BRIC program is designed to promote a national culture of preparedness and public safety through encouraging investments to protect the Nation's communities and infrastructure and through strengthening national mitigation capabilities to foster resilience. The BRIC program seeks to fund effective and innovative projects that will reduce risk, increase resilience, and serve as a catalyst to encourage the whole community to invest in and adopt policies related to mitigation.

The guiding principles of the BRIC program are to (1) support State and local governments, Tribes, and territories through capability and capacity-building to enable them to identify mitigation actions and implement projects that reduce risks posed by natural hazards; (2) encourage and enable innovation while allowing flexibility, consistency, and effectiveness; (3) promote partnerships and enable high-impact investments to reduce risk from natural hazards with a focus on critical services and facilities, public infrastructure, public safety, public health, and communities; (4) provide a significant opportunity to reduce future losses and minimize impacts on the Disaster Relief Fund; and (5) support the adoption and enforcement of building codes, standards, and policies that will protect the health, safety, and general welfare of the public, take into account future conditions, and have long-lasting impacts on community risk reduction, including for critical services and facilities and for future disaster costs. The BRIC program will distribute funds annually and apply a Federal/non-Federal cost share.

In accordance with 2 CFR 200.203, FEMA requires that all parties interested in receiving FEMA mitigation grants submit an application package for grant assistance. Applications and subapplications for the BRIC and FMA programs are submitted via the FEMA Grants Outcome (FEMA GO) system. Information necessary for the ongoing monitoring and closeout of the PDM program for FY 2019 and prior will be collected via the e-Grants system. The FEMA GO and e-Grants systems have been developed to meet the intent of the e-Government initiative, authorized by Public Law 106-107. This initiative requires that all Government agencies both streamline grant application processes and provide for the means to electronically create, review, and submit a grant application via the internet.

In order to increase transparency in decision-making while building capability and partnerships, FEMA will convene a National Review Panel to score applications and subapplications based on qualitative evaluation criteria. The qualitative criteria are narrative submissions to allow applicants and subapplicants the flexibility to fully explain the strengths of the proposed project. Qualitative evaluation criteria have graded scales of point scoring.

The BRIC program will solicit volunteers from SLTTs and Other Federal Agencies (OFAs) to review applications that are routed to the qualitative panel reviews. The volunteers will review and score applications based on a pre-determined scoring criteria.

Collection of Information

Title: Mitigation Grant Programs.

Type of Information Collection: Revision of a currently approved collection.

OMB Number: 1660-0072.

FEMA Forms: Building Resilient Infrastructure and Communities (BRIC) FY 20 National Competition Panel Review Expression of Interest Form.

Abstract: FEMA's Flood Mitigation Assistance and Building Resilient Infrastructure and Communities programs use an automated grant application and management system called FEMA GO. The Pre-Disaster Mitigation program uses an automated grant application and management system called e-Grants. These grant programs provide funding for the purpose of reducing or eliminating the risks to life and property from hazards. The FEMA GO and e-Grants systems include all the application information needed to apply for funding under these grant programs. FEMA will use the information to solicit volunteers from SLTTs and Other Federal Agencies (OFAs) to review applications that are routed to the qualitative panel reviews. The volunteers will review and score applications based on a pre-determined scoring criteria.

Affected Public: State, Local communities, Tribes and Territories; Individuals or Households.

Estimated Number of Respondents: 436.

Estimated Number of Responses: 5,364.

Estimated Total Annual Burden Hours: 58,248.

Estimated Total Annual Respondent Cost: $3,324,211.

Estimated Respondents' Operation and Maintenance Costs: None.

Estimated Respondents' Capital and Start-Up Costs: None.

Estimated Total Annual Cost to the Federal Government: $7,586,635.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Acting Records Management Branch Chief, Office of the Chief Administrative Officer, Mission Support, Federal Emergency Management Agency, Department of Homeland Security.

[FR Doc. 2020-23762 Filed 10-26-20; 8:45 am]

BILLING CODE 9111-BW-P